DEPARTMENT OF TRANSPORTATION

Federal Transit Administration

Federal Fiscal Year 2015 Annual List of Certifications and Assurances for Federal Transit Administration Grants and Cooperative Agreements

AGENCY: Federal Transit Administration, DOT.

ACTION: Notice of availability.

SUMMARY: This notice announces the availability of the Federal Transportation Administration's (FTA) Fiscal Year (FY) 2015 Annual List of Certifications and Assurances for FTA Grants and Cooperative Agreements, which can be found at FTA's Web site, http://www.fta.dot.gov. This notice provides a condensed list of the various pre-award Certifications and Assurances that may apply to an Applicant for FTA funding and its Project. This notice also describes both FTA's and the Applicant's responsibilities with respect to the Certifications and Assurances and highlights the differences between the FY 2015 Certifications and Assurances and those published for FY 2014. In addition, this notice also provides instructions on how and when to submit Certifications and Assurances for FY 2015. Each Applicant for FTA funding must submit the Certifications and Assurances that apply to it and the Project or Projects for which it seeks funding during FY 2015. An Applicant typically acts through its certified or authorized representative (You). You, as the Applicant's Certified or Authorized Representative, must have the authority to sign the Applicant's Certifications and Assurances and to bind the Applicant's compliance with the Certifications and Assurances you select on its behalf.

DATES: Effective Date: These FY 2015 Certifications and Assurances are effective October 1, 2014, the first day of FY 2015.

FOR FURTHER INFORMATION CONTACT: The appropriate Regional or Metropolitan Office listed in this notice. For copies of related documents and information, see our Web site at http://www.fta.dot.gov or contact our Office of Administration at 202-366-4007.

Region 1: Boston

States served: Connecticut, Maine, Massachusetts, New Hampshire, Rhode Island and Vermont, Telephone # 617-494-2055

Region 2: New York

States served: New York, and New Jersey, Telephone # 212-668-2170

Region 3: Philadelphia

States served: Delaware, Maryland, Pennsylvania, Virginia, and West Virginia, Telephone # 215-656-7100

Region 4: Atlanta

States served: Alabama, Florida, Georgia, Kentucky, Mississippi, North Carolina, South Carolina, Tennessee, Territories served: Puerto Rico and the U.S. Virgin Islands, Telephone # 404-865-5600

Region 5: Chicago

States served: Illinois, Indiana, Michigan, Minnesota, Ohio, and Wisconsin, Telephone # 312-353-2789

Region 6: Dallas/Ft. Worth

States served: Arkansas, Louisiana, New Mexico, Oklahoma, and Texas, Telephone # 817-978-0550

Region 7: Kansas City

States served: Iowa, Kansas, Missouri, and Nebraska, Telephone # 816-329-3920

Region 8: Denver

States served: Colorado, Montana, North Dakota, South Dakota, Utah, and Wyoming, Telephone # 720-963-3300

Region 9: San Francisco

States served: Arizona, California, Hawaii, Nevada, Territories served: Guam, American Samoa and the Northern Mariana Islands, Telephone # 415-744-3133

Region 10: Seattle

States served: Alaska, Idaho, Oregon, and Washington; Telephone # 206-220-7954

Chicago Metropolitan Office

Area served: Chicago Metropolitan Area; Telephone # 312-886-1616

Los Angeles Metropolitan Office

Area served: Los Angeles Metropolitan Area; Telephone # 213-202-3950

Lower Manhattan Recovery Office

Area served: Lower Manhattan; Telephone # 212-668-1770

New York Metropolitan Office

Area served: New York Metropolitan Area; Telephone # 212-668-2201

Philadelphia Metropolitan Office

Area served: Philadelphia Metropolitan Area; Telephone # 215-656-7070

Washington DC Metropolitan Office

Area served: Washington DC Metropolitan Area; Telephone # 202-219-3562/202-219-3565

SUPPLEMENTARY INFORMATION:

1. What are FTA's responsibilities?

The second sentence of 49 U.S.C. 5323(n) states in pertinent part that, “[t]he Secretary [of Transportation] shall publish annually a list of all certifications required under this chapter [49 U.S.C. chapter 53]. . . .” The first sentence of 49 U.S.C. 5323(n) states that, “[a] certification required under this chapter [53] and any additional certification or assurance required by law or regulation to be submitted to the Secretary [who delegated that authority to the Federal Transit Administrator] may be consolidated into a single document to be submitted annually as part of a grant application under this chapter [53].” Therefore, FTA has grouped those certifications and assurances into the following twenty-four (24) groups:

Group 01. Required Certifications and Assurances for Each Applicant,

Group 02. Lobbying,

Group 03. Procurement and Procurement Systems,

Group 04. Private Sector Protections,

Group 05. Rolling Stock Reviews and Bus Testing,

Group 06. Demand Responsive Service,

Group 07. Intelligent Transportation Systems,

Group 08. Interest and Financing Costs and Acquisition of Capital Assets by Lease,

Group 09. Transit Asset Management Plan and Public Transportation Agency Safety Plan,

Group 10. Alcohol and Controlled Substances Testing,

Group 11. Fixed Guideway Capital Investment Grants Program (New Starts, Small Starts, and Core Capacity) and Capital Investment Program in Effect before MAP-21 Became Effective,

Group 12. State of Good Repair Program,

Group 13. Fixed Guideway Modernization Grant Program,

Group 14. Bus and Bus Facilities Formula Grants Program and Bus and Bus-Related Equipment and Facilities Grant Program (Discretionary),

Group 15. Urbanized Area Formula Grants Programs/Passenger Ferry Grants Program/Job Access and Reverse Commute (JARC) Formula Grant Program,

Group 16. Seniors/Elderly/Individuals With Disabilities Programs/New Freedom Program,

Group 17. Rural/Other Than Urbanized Areas/Appalachian Development/Over-the-Road Bus Accessibility Programs,

Group 18. Tribal Transit Programs (Public Transportation on Indian Reservations Programs),

Group 19. Low or No Emission/Clean Fuels Grant Programs,

Group 20. Paul S. Sarbanes Transit in Parks Program,

Group 21. State Safety Oversight Grant Program,

Group 22. Public Transportation Emergency Relief Program,

Group 23. Expedited Project Delivery Pilot Program, and

Group 24. Infrastructure Finance Programs.

Since 1995, FTA has consolidated the Certifications and Assurances required by law or regulation into a single document for publication in the Federal Register. To receive Federal funding appropriated or made available for the Grant, Cooperative Agreement, Loan, Loan Guarantee, and Line of Credit programs FTA administers, your Applicant must submit the annual Certifications and Assurances required for the type of funding it seeks.

U.S. DOT's annual appropriations for part of FY 2015 have been included in the Continuing Appropriations Resolution, 2015, Public Law 113-164, September 19, 2014. As such, FTA is publishing its FY 2015 Certifications and Assurances now.

These FY 2015 Certifications and Assurances supersede any Certifications and Assurances published in an earlier fiscal year or that may have appeared as illustrations in an FTA circular. After publication in the Federal Register, each Applicant must submit adequate FY 2015 Certifications and Assurances before FTA may award funding to support that Applicant's request for funding for its Project.

2. What is the legal effect of the Certifications and Assurances?

a. Pre-Award Representations. Certifications and Assurances are pre-award representations typically required by Federal law or regulation that your Applicant must submit before FTA may provide Federal funding for its Project. In general, these FY 2015 Certifications and Assurances are effective October 1, 2014, except as FTA determines otherwise in writing. For FY 2015, however, certain Certifications and Assurances in effect prior to MAP-21 continue to apply to certain Projects and Project activities that are financed with funds appropriated or made available for FY 2012 or a previous fiscal year. Conversely, some Certifications and Assurances apply to both Programs funded by MAP-21 and Programs financed with funds appropriated or made available for FY 2012 or a previous fiscal year. Therefore, it is critically important that you know the fiscal year in which the funding awarded for your Applicant's Project was appropriated.

Upon publication in the Federal Register, FTA may not award funding for your Applicant's Project until it submits sufficient FY 2015 Certifications and Assurances.

b. Binding Commitment. Your Applicant must comply with any Certifications or Assurances you make on its behalf, irrespective of whether you remain your Applicant's authorized representative. When you submit its Certifications and Assurances to FTA, both you and your Applicant are agreeing to comply with those terms. For programs that require specific certifications, when the Certifications and Assurances that would apply under MAP-21 differ from the Certifications and Assurances that would apply in FY 2012 or a previous fiscal year, FTA continues to include both types in the single Group used to facilitate funding your Applicant's request(s).

c. Length of Commitment. Your Applicant's FY 2015 Certifications and Assurances remain in effect until its Project is closed or the useful life of its Project property has expired, whichever is later. If your Applicant provides different Certifications and Assurances in a later fiscal year, the later Certifications and Assurances will usually apply to its Project, except as FTA determines otherwise in writing.

d. Duration. You and your Applicant may use the FY 2015 Certifications and Assurances in Appendix A to support applications for FTA funding until FTA issues its FY 2016 Certifications and Assurances.

e. The FY 2015 Certifications and Assurances Are Not a Complete List of Federal Requirements. FTA cautions that the FY 2015 Certifications and Assurances focus mainly on those representations that your Applicant is required to submit to FTA before FTA may award Federal funds for its Project. Consequently, these Certifications and Assurances do not include many other Federal requirements that will apply to your Applicant and its Project.

f. Federal Requirements. In addition to the information in this notice and FTA's FY 2015 Apportionments Notice, FTA also strongly encourages you and your Applicant's staff and prospective and current Third Party Participants to review all Federal legislation, regulations, and guidance that apply to your Applicant's proposed Project and to them. The FY 2015 Master Agreement identifies many of those requirements and applicable guidance, and may be accessed at http://www.fta.dot.gov.

g. Penalties for False or Fraudulent Statements. If you provide any false or fraudulent statement to the Federal Government on behalf of your Applicant or yourself, you may incur both Federal civil and criminal penalties. See:

(1) The Program Fraud Civil Remedies Act of 1986, as amended, 31 U.S.C. 3801 et seq.,

(2) U.S. Department of Transportation (U.S. DOT) regulations, “Program Fraud Civil Remedies,” 49 CFR part 31, and

(3) Section 5323(l)(1) of title 49, United States Code, which provides for Federal criminal penalties and termination of Federal funding should you provide, on behalf of your Applicant or yourself, a false or fraudulent certificate, submission, or statement in connection with the Federal transit program authorized by 49 U.S.C. chapter 53.

3. What are your responsibilities?

a. Make Sure All Involved With Your Applicant's Project Understand the Federal Requirements That Will Apply to Your Applicant and its Project. FTA strongly advises you, as your Applicant's authorized representative, to read this notice and the Certifications and Assurances on the FTA Web site before selecting Certifications and Assurances on behalf of your Applicant. In addition to reading the information in this notice and on the FTA Web site, http://www.fta.dot.gov).

FTA also advises you to read the information accompanying the apportionment tables when FTA publishes its FY 2015 Apportionment Notices.

Your Applicant is responsible for compliance with all Federal requirements that apply to itself and its Project. Nevertheless, people and entities participating in your Applicant's Project, including Subrecipients, Third Party Contractors, and Third Party Sub-contractors (Third Party Participants) can seriously affect its ability to comply with those Federal requirements. Accordingly, all Third Party Participants involved in its Project need to know and should agree to comply with the Federal requirements that affect the Applicant's Project-related activities and themselves.

b. Subrecipient and Other Third Party Participation. Except in limited circumstances when FTA has determined otherwise, your Applicant is ultimately responsible for compliance with all Certifications and Assurances that you select on its behalf, even though much of its Project will be carried out by Subrecipients or other Third Party Participants. Therefore, FTA strongly recommends that you take appropriate measures to ensure that Subrecipients and other Third Party Participants in your Applicant's Project do not take actions that will cause your Applicant to violate the representations made in its Certifications and Assurances.

c. Submit Your Applicant's Certifications and Assurances. You must submit all Groups of the FY 2015 Certifications and Assurances that apply to your Applicant and the Projects for which it seeks FTA funding in FY 2015. For your convenience, FTA recommends that you submit all twenty-four (24) Groups of Certifications and Assurances. Those provisions of the various Certifications and Assurances that do not apply to your Applicant or its Project will not be enforced.

d. Obtain the Affirmation of Your Applicant's Attorney. You must obtain an affirmation of your Applicant's Attorney, signed in FY 2015, stating that your Applicant has sufficient authority under its State and local law to certify its compliance with the FY 2015 Certifications and Assurances that you have selected on its behalf. Your Applicant's Attorney must sign this affirmation during FY 2015. An Affirmation of its Attorney dated in a previous fiscal year is insufficient, unless FTA expressly determines otherwise in writing.

e. When To Submit.

(1) If your Applicant is applying for funding under any of the discretionary capital programs (e.g., New Starts, Small Starts, or Core Capacity Improvement), FTA expects to receive your Applicant's FY 2015 Certifications and Assurances within ninety (90) days from the date of this publication or soon after the submittal of your Applicant's request for FY 2015 funding. Likewise, if your Applicant is a current FTA recipient with an active Project funded with FTA capital or formula funds, FTA expects to receive your Applicant's FY 2015 Certifications and Assurances within ninety (90) days from the date of this publication or soon after the submittal of your Applicant's request for FY 2015 funding.

(2) If your Applicant seeks funding from an FTA program other than a formula program or a discretionary capital program, e.g., for a Research, Development, Demonstration, and Deployment Project, FTA expects to receive your Applicant's FY 2015 Certifications and Assurances with the submission of its Application for FTA funding or soon thereafter.

4. Where are FTA's FY 2015 Certifications and Assurances?

a. FTA's FY 2015 Certifications and Assurances are available at FTA's Web site, http://www.fta.dot.gov, and

b. TEAM-Web, FTA's electronic award and management system, http://ftateamweb.fta.dot.gov, at the “Cert's & Assurances” tab of the “View/Modify Recipients” page in the “Recipients” option.

5. What changes have been made since FY 2014?

a. In the Preface, FTA is clarifying that these Certifications and Assurances apply to an Applicant for a Loan, Loan Guarantee, and Line of Credit as well as to an Applicant for a Grant or Cooperative Agreement,

b. In the Preface, FTA is asking that each member of a team, consortium, joint venture, or partnership to identify itself and its role in the Project as a Recipient, Subrecipient, or Third Party Contractor,

c. In the Preface, we have added a reference to the Highway and Transportation Funding Act of 2014, Public Law 113-159, August 8, 2014, the Continuing Appropriations Resolution, 2015, Public Law 113-164, September 19, 2014, and other Appropriations Acts or Continuing Resolutions funding the Department of Transportation during Fiscal Year 2015,

d. In Group 01.A, Section 2, FTA has clarified that “Agreements” means Charter Service Agreement and School Bus Agreement, and

e. In Group 01A, Section 3, FTA is clarifying that these Certifications and Assurances apply to an Applicant for a Loan, Loan Guarantee, and Line of Credit as well as to an Applicant for a Grant or Cooperative Agreement.

6. How do you submit the Certifications and Assurances?

a. Electronic Submission. Except in rare circumstances and if permitted by FTA, you must submit your Applicant's FY 2015 Certifications and Assurances in TEAM-Web. To submit the Certifications and Assurances, you must be registered in TEAM-Web.

The TEAM-Web “Recipients” option at the “Cert's & Assurances” tab of the “View/Modify Recipients” page contains fields for individually selecting among the 24 Groups of Certifications and Assurances that apply to your Applicant and also a designated field for selecting all 24 Groups, of which only the requirements that apply to you or your Applicant will be enforced.

The “Cert's & Assurances” tab has a field for you to enter your personal identification number (PIN), which is your electronic signature. There is also a field for the Attorney's PIN, affirming your Applicant's legal authority to make and comply with the Certifications and Assurances you have selected on its behalf. You may enter your PIN in place of the Attorney's PIN, provided that your Applicant has on file a similar affirmation that has been written, dated, and signed by its Attorney in FY 2015.

b. Paper Submission. You may submit your Applicant's FY 2015 Certifications and Assurances on paper only if you cannot submit them electronically in TEAM-Web and FTA agrees to accept your Applicant's Signature Pages in a typewritten hard copy. If you cannot submit your Applicant's Certifications and Assurances electronically and if FTA so permits, you must submit the Signature Pages at the end of the Certifications and Assurances indicating the Groups of Certifications and Assurances your Applicant is providing. You may place a single mark in the designated space to signify your Applicant's agreement to comply with all Groups of Certifications and Assurances to the extent that they apply to it, or select the specific Groups of Certifications and Assurances that apply to it and its Projects.

You must enter your signature on the last Signature Page and provide an Affirmation by your Applicant's Attorney concerning your Applicant's legal capacity to make and comply with the FY 2015 Certifications and Assurances selected on its behalf. You may enter your signature in place of the Attorney's signature in the Affirmation by Applicant's Attorney part of the Signature Page, provided that your Applicant has on file a similar affirmation, written, dated, and signed by its Attorney in FY 2015.

For more information, you may contact the appropriate FTA Regional or Metropolitan Office.

Authority. 49 U.S.C. chapter 53; the Moving Ahead for Progress in the 21st Century Act (MAP-21) Pub. L. 112-141, June 6, 2012; other Federal laws administered by FTA; U.S. DOT and FTA regulations codified or to be codified in Title 49, Code of Federal Regulations; and FTA Circulars.

Therese W. McMillan,
Acting Administrator.

[FR Doc. 2014-25942 Filed 10-30-14; 8:45 am]

BILLING CODE P